DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Limits of Application of the Take Prohibitions.

OMB Control Number: 0648-0399.

Form Number(s): None.

Type of Request: Regular (extension, without change, of a currently approved collection).

Number of Respondents: 301.

Average Hours per Response: 5 hours for a diversion screening limit project; 20 hours for a road maintenance agreement; 30 hours for an urban development package; 20 hours for a tribal plan; 10 hours for a fishery harvest plan; 5 hours for a report of aided, salvaged, or disposed of salmonids; 2 hours for research permits; 5 hours for artificial propagation plans; and 2 hours for annual reports.

Burden Hours: 935.

Needs and Uses: Section 4(d) of the Endangered Species Act of 1973 (ESA) requires the National Marine Fisheries Service (NMFS) to adopt such regulations as it “deems necessary and advisable to provide for the conservation of” threatened species. Those regulations may include any or all of the prohibitions provided in section 9(a)(1) of the ESA, which specifically prohibits “take” of any endangered species (“take” includes actions that harass, harm, pursue, kill, or capture). There are presently 22 separate Evolutionarily Significant Units (ESUs) of west coast salmonids listed as threatened, covering a large percentage of the land base in California, Oregon, Washington and Idaho. On June 28, 2005 (70 FR 37160), February 1, 2006 (71 FR 5178), and September 25, 2008 (73 FR 55451), NMFS issued final regulations which makes ESA section 9 prohibitions generally applicable to these threatened ESUs except in 13 programs and circumstances.

The final regulations at 50 CFR 223.203, as well as online information posted at https://www.westcoast.fisheries.noaa.gov/permits/section_4d.html, describe 13 programs or circumstances that contribute to the conservation of, or are being conducted in a way that adequately limits impacts on, listed salmonids. Certain of these 13 “Limits” on the take prohibitions entail voluntary submission of a plan(s) to NMFS and require annual or occasional reports by entities wishing to take advantage of these Limits, or continue within them.

Affected Public: Federal government; State, local, or tribal government; business or other for-profit organizations.

Frequency: Annual.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-08972 Filed 5-1-19; 8:45 am]

BILLING CODE 3510-22-P